HARRY S. TRUMAN SCHOLARSHIP FOUNDATION

45 CFR Part 1801

Scholar Accountability Policy

AGENCY: Harry S. Truman Scholarship Foundation.

ACTION: Notice of proposed rulemaking.

SUMMARY: The Truman Scholarship Foundation (Foundation) proposes to amend its regulations with respect to Scholar accountability to the Foundation for scholarship funds received. This rule is to clarify existing Foundation policy. This is the second notice for public comment: the first was published in the Federal Register (January 21, 2005 70 FR 3178-3179), and no comments were received.

DATES: Submit comments on or before April 13, 2005.

ADDRESSES: Send comments to Louis H. Blair, Executive Secretary, Harry S. Truman Scholarship Foundation, 712 Jackson Place, NW., Washington, DC 20005 or send e-mail to lblair@truman.gov.

FOR FURTHER INFORMATION CONTACT: Louis Blair, Harry S. Truman Scholarship Foundation, 202-395-4831.

SUPPLEMENTARY INFORMATION: This proposed rule was developed by the Accountability Task Force, established at the Spring 2003 Board of Trustees Meeting. The Task Force researched and considered a number of options and recommended this rule to the Board of Trustees in Spring 2004. The Board adopted the recommendations of the Trustees and required the Foundation provide an implementation plan. This implementation plan was received and approved at the Fall 2004 Board Meeting.

List of Subjects in 45 CFR Part 1801

Grant Programs—education, Scholarships and fellowships.

For the reasons set forth in the preamble, the Foundation proposes to amend 45 CFR part 1801 as follows:

PART 1801—HARRY S. TRUMAN SCHOLARSHIP PROGRAM

1. The authority citation for part 1801 continues to read as follows:

Authority: Pub L. 93-642, 88 Stat. 2276 (20 U.S.C. 2001-2012).

2. Add § 1801.63 to read as follows:

§ 1801.63 Scholar Accountability

(a) A Scholar selected after January 2005 must be employed in public service for three of the seven years following completion of his or her Foundation funded graduate education.

(b) Following completion of Foundation funded graduate education, Scholars must submit a report to the Foundation by July 15 of each year. This report will include the Scholar's current contact information as well as a brief description of his or her employment during the past twelve months. This reporting requirement ends when the Foundation determines that a Scholar has reported three years of public service employment and the Foundation notifies him or her that he or she no longer is required to submit reports. Scholars who fail for two consecutive years to submit the required report to the Foundation will be considered to have failed to complete the three year public service requirement of paragraph (a) of this section.

(c) A Scholar who fails to be employed in public service for three out of the first seven years following completion of his or her Foundation funded graduate education must repay to the Foundation an amount equal to:

(1) All of the Scholarship stipends received,

(2) Interest at the rate of 6% per annum from the date of receipt of each payment until repayment is made to the Foundation, and

(3) Reasonable collection fees.

(d)(1) The repayment obligation of paragraph (c) of this section accrues on the first July 15 on which it becomes impossible for a Scholar to fulfill the three year public service requirement of paragraph (a) of this section. For example, July 15 of the sixth year following completion of Foundation funded graduate education for a Scholar who has been employed in the public service for only one of those six years.

(2) The Foundation will send to the Scholar's last known address a notice that his or her repayment obligation has accrued. The failure, however, of the Foundation to send, or the Scholar to receive, such a notice does not alter or delay the Scholar's repayment obligation.

(e) The Foundation may employ whatever remedies are available to it to collect any unpaid obligation accruing under this § 1801.63.

(f) Upon application by the Scholar showing good cause for doing so, the Foundation may waive or modify the repayment obligation established by paragraph (c) of this section.

(g) The Foundation will establish a process for appealing any disputes concerning the accrual of the repayment obligation imposed by paragraph (c) of this section. The Foundation will publish on its Web site http://www.truman.gov information about this appeals process and other information pertinent to repayment obligations accruing under this § 1801.63.

Dated: March 9, 2005.
Louis H. Blair,
Executive Secretary.

[FR Doc. 05-4951 Filed 3-11-05; 8:45 am]

BILLING CODE 6820-AD-P